DEPARTMENT OF DEFENSE

GENERAL SERVICES ADMINISTRATION

NATIONAL AERONAUTICS AND SPACE ADMINISTRATION

48 CFR Parts 9, 14, 15, 31, and 52

[FAR Case 2001-014 (Extension and Public Meeting)]

RIN 9000-AJ10

Federal Acquisition Regulation; Contractor Responsibility, Labor Relations Costs, and Costs Relating to Legal and Other Proceedings—Revocation

AGENCIES: Department of Defense (DoD), General Services Administration (GSA), and National Aeronautics and Space Administration (NASA).

ACTION: Proposed rule; extension of comment period; notice of public meeting.

SUMMARY: The Federal Acquisition Regulatory Council (FAR Council) published in the Federal Register at 65 FR 80255, December 20, 2000, a final rule addressing contractor responsibility, labor relations costs and costs relating to legal and other proceedings. The FAR Council is reconsidering its position and published in the Federal Register at 66 FR 17758, April 3, 2001, a proposed rule with request for public comments revoking the December 20, 2000, final rule. The proposed rule specified a June 4, 2001, due date for receipt of comments. The FAR Council has decided to extend that due date until July 6, 2001, to ensure all potential commentors have adequate time to prepare their submissions. Also, to ensure an open dialogue between the Government and interested parties on the proposed rule, the FAR Council will hold a public meeting on the proposed rule on June 18, 2001.

DATES: Comments: Interested parties should submit comments in writing on or before July 6, 2001, to be considered in the formulation of a final rule.

Public Meeting: A public meeting will be conducted at the address shown below starting at 12 noon to 4:00 p.m., local time, on June 18, 2001, to ensure an open dialogue between the Government and interested parties on the proposed rule.

ADDRESSES: Submit written comments on the proposed rule to be considered in the formulation of a final rule to General Services Administration, FAR Secretariat (MVR), 1800 F Street, NW., Room 4035, ATTN: Laurie Duarte, Washington, DC 20405.

Submit electronic comments via the Internet to:

farcase.2001-014@gsa.gov

Please submit comments only, including public meeting presentations to be considered as comments, and cite FAR case 2001-014 in all correspondence related to this case.

Public Meeting: The location of the public meeting will be at the—National Aeronautics and Space Administration, Headquarters Auditorium 300 E Street, SW, First Floor, West Lobby, Washington, DC 20546.

If you wish to attend the meeting and/or make presentations on the proposed rule, please contact and submit a copy of your presentation by June 4, 2001, to—General Services Administration, Acquisition Policy Division (MVP), 1800 F Street, NW., Room 4035, ATTN: Ralph DeStefano, Washington, DC 20405, Telephone: (202) 501-0692.

Submit electronic materials via the Internet to—

meeting.2001-014@gsa.gov.

Please submit presentations only and cite Meeting 2001-014 in all correspondence related to this public meeting. The submitted presentations will be the only record of the public meeting. If you intend to have your presentation considered as a public comment on the proposed rule, the presentation must be submitted separately as a public comment as instructed above.

FOR FURTHER INFORMATION CONTACT: The FAR Secretariat, Room 4035, GS Building, Washington, DC, 20405, at (202) 501-4755 for information pertaining to status or publication schedules. Contact Mr. Ralph De Stefano, Procurement Analyst, at (202) 501-1758 for clarification of content. Please cite FAR case 2001-014. Contact Ms. LaRhonda Erby at (202) 501-0692 for information pertaining to time and location of the public meeting.

Dated: May 2, 2001.
Al Matera,
Director, Acquisition Policy Division.

[FR Doc. 01-11382 Filed 5-4-01; 8:45 am]

BILLING CODE 6820-EP-U